DEPARTMENT OF DEFENSE

Office of the Secretary

National Security Education Board Members Meeting

AGENCY: Department of Defense.

ACTION: Notice of meeting.

SUMMARY: Pursuant to Public Law 92-463, notice is hereby given of a forthcoming meeting of the National Security Education Board. The purpose of the meeting is to review and make recommendations to the Security Education Board. The purpose of the meeting is to review and make recommendations to the Secretary of Defense concerning requirements established by the David L. Boren National Security Education Act, Title VII of Public Law 102-183, as amended.

DATES: June 26, 2007.

ADDRESSES: Holiday Inn Rosslyn at Key Bridge, Shenandoah Room AB, 1800 North Fort Meyer Drive, Arlington, VA 22209.

FOR FURTHER INFORMATION CONTACT: Dr. Kevin Gormley, Program Officer, National Security Education Program, 1101 Wilson Boulevard, Suite 1210, Rosslyn P.O. Box 20010, Arlington, Virginia 22209-2248; (703) 696-1991. Electronic mail address: Gormleyk@nau.edu.

SUPPLEMENTARY INFORMATION: The National Security Education Board Members meeting is open to public. The public is afforded the opportunity to submit written statements associated with NSEP.

Dated: May 30, 2007.
L.M. Bynum,
Alternate OSD Federal Register Liaison Officer, DoD.

[FR Doc. 07-2803 Filed 6-5-07; 8:45 am]

BILLING CODE 5001-06-M